DEPARTMENT OF LABOR

Office of the Secretary

All Items Consumer Price Index for All Urban Consumers United States City Average

Pursuant to Section 112 of the 1976 amendments to the Federal Election Campaign Act (Pub. L. 94-283, 2 U.S.C. 441a), the Secretary of Labor has certified to the Chair of the Federal Election Commission and publishes this notice in the Federal Register that the United States City Average All Items Consumer Price Index for All Urban Consumers (1967=100) increased 264.8 percent from its 1974 annual average of 147.7 to its 2002 annual average of 538.8. Using 1974 as a base (1974=100), I certify that the United States City Average All Items Consumer Price Index for All Urban Consumers thus increased 264.8 percent from its 1974 annual average of 100 to its 2002 annual average of 364.8.

Signed at Washington, DC on the 3rd day of March, 2003.
Elaine L. Chao,
Secretary of Labor.

[FR Doc. 03-5408 Filed 3-6-03; 8:45 am]

BILLING CODE 4510-24-M